DEPARTMENT OF HEALTH AND HUMAN SERVICES

Centers for Disease Control and Prevention

Disease, Disability, and Injury Prevention and Control Special Emphasis Panel (SEP): Initiative To Integrate Clinical Laboratories into Public Health Testing, Funding Opportunity Number CDC-PA-HM06-605

In accordance with Section 10(a)(2) of the Federal Advisory Committee Act (Pub. L. 92-463), the Centers for Disease Control and Prevention (CDC) announces the following meeting:

Name: Disease, Disability, and Injury Prevention and Control Special Emphasis Panel (SEP): Initiative to Integrate Clinical Laboratories into Public Health Testing, Funding Opportunity Number (FON) CDC-PA-HM06-605.

Times and Dates: 8:30 a.m.-4:30 p.m., August 3, 2006 (Closed).

8:30 a.m.-4 p.m., August 4, 2006 (Closed).

Place: Centers for Disease Control and Prevention, Building 19, Conference Room 256, 1600 Clifton Road, Atlanta, GA 30333, Telephone 404.498.2329.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to FON CDC-PA-HM06-605, “Initiative to Integrate Clinical Laboratories into Public Health Testing.”

Due to programmatic matters, this Federal Register Notice is being published on less than 15 calendar days notice to the public (41 CFR 102-3.150(b)).

Contact Person for More Information: Jack Rogers, Ph.D., Program Analyst, Centers for Disease Control and Prevention, 1600 Clifton Road NE., MS E-21, Atlanta, GA 30333, Telephone 404.498.2329.

The Director, Management Analysis and Services Office, has been delegated the authority to sign Federal Register notices pertaining to announcements of meetings and other committee management activities, for both CDC and the Agency for Toxic Substances and Disease Registry.

Dated: August 3, 2006.
Alvin Hall,
Director, Management Analysis and Services Office, Centers for Disease Control and Prevention.

[FR Doc. 06-6802 Filed 8-8-06; 8:45 am]

BILLING CODE 4163-18-P